DEPARTMENT OF THE INTERIOR

Bureau of Land Management

[LLWYP07000.L14400000.FR0000 17X]

Notice of Realty Action: Proposed Non-Competitive Lease of Public Land in Johnson County, WY

AGENCY: Bureau of Land Management, Interior.

ACTION: Notice.

SUMMARY: The Bureau of Land Management (BLM), Buffalo Field Office, proposes to lease a parcel of public land totaling 0.87 acres in Johnson County, Wyoming, for residential purposes. The subject parcel was inadvertently developed by the adjacent landowner (proposed lessee) as a residence without authorization. The area has a long history of occupancy and the proposed lease would provide the BLM with a reasonable option to resolve the continued unauthorized use of the affected public land. The BLM proposes to lease the lands for not less than the fair market value to N. Pearl Ross. The BLM Buffalo Resource Management Plan, dated September 22, 2015, does not exclude the subject parcel from the authorized officer's discretion to consider lease proposals in the subject area.

DATES: Written comments may be submitted to the address below. The BLM must receive your comments on or before November 13, 2017.

ADDRESSES: Send written comments concerning the proposed lease to the Field Manager, BLM, Buffalo Field Office, 1425 Fort Street, Buffalo, Wyoming 82834.

FOR FURTHER INFORMATION CONTACT: Claire Oliverius, Realty Specialist, at the address above, or by telephone at 307-684-1178, or by email at doliveri@blm.gov. Persons who use a telecommunications device for the deaf (TDD) may call the Federal Relay Service (FRS) at 1-800-877-8339 to contact the above individual during business hours. The FRS is available 24 hours a day, 7 days a week, to leave a message or question with the above individual. You will receive a reply during normal business hours.

SUPPLEMENTARY INFORMATION: The BLM has determined that the parcel of land described below is suitable for consideration as a residential lease under Section 302 of the Federal Land Policy and Management Act of 1976 (43 U.S.C. 1732) (FLPMA) and the implementing regulations at 43 CFR 2920.

A parcel of land situated in lot 3, section 30, Township 44 North, Range 81 West, Sixth Principal Meridian, Wyoming, more particularly described as follows:

Beginning at the center-west 1/16 section corner of said section 30, monumented with a BLM stainless steel post marked for said corner point;

Thence, S. 89°32′ W., along the east and west center line of said section 30, a distance of 57 feet to an existing fence;

Thence, S. 12°57′ W., along said fence, a distance of 84.8 feet to a point in said fence;

Thence, N. 23°29′ W., a distance of 12.4 feet to a point;

Thence, S. 66°31′ W., a distance of 5.0 feet to a point;

Thence, S. 23°29′ E., a distance of 19 feet to the said fence;

Thence, S. 12°57′ W., along said fence, a distance of 221 feet to intersection with an existing fence;

Thence, S. 48°20′ E., along said intersecting fence, a distance of 126 feet to a corner in said fence;

Thence, S. 23°11′ W., along said fence, a distance of 38 feet to a corner in said fence;

Thence, S. 37°00′ E., along said fence, a distance of 81 feet to the north and south center line of the SW1/4 of said section 30;

Thence, North, along said north and south center line, a distance of 489 feet to the Point of Beginning; containing approximately 0.87 acres of land.

Basis of Bearing: True Meridian, determined from GPS/GNSS survey.

Based on past use of the subject parcel for a residence owned by William D. and Bonnie S. Ross, and currently occupied by N. Pearl Ross, it is the authorized officer's decision to offer the proposed residential lease with appropriate terms and conditions to N. Pearl Ross on a non-competitive basis because competitive bidding would represent an unfair competitive and economic disadvantage to Ms. Ross. As noted above, the use of this parcel constitutes an inadvertent trespass that was discovered by the BLM in 2013. The Ross family has since worked with the BLM to settle the trespass and the proposed lessee will apply for a residential lease.

Subsequent to the BLM's receipt of an application for leasing by N. Pearl Ross that complies with all applicable requirements set forth at 43 CFR 2920.5, processing of the proposed lease will take place in accordance with 43 CFR 2920.6, and other applicable regulations. Information and documentation regarding processing of the lease application is available as described in ADDRESSES, above, and reference should be made to the National Environmental Policy Act (NEPA) analysis, to be conducted under Environmental Assessment DOI-BLM-WY-P070-2016-0033-EA. The BLM will not make a final decision on the lease until all required analyses are completed. If authorized, the lease would be subject to provisions of the FLPMA, all applicable regulations of the Secretary of the Interior, including, but not limited to, 43 CFR part 2920, and to valid existing rights.

Public comments regarding the proposed lease may be submitted in writing—see ADDRESSES above—on or before November 13, 2017.

Comments received in electronic form, such as email or fax, will be considered. Any adverse comments regarding the proposed lease will be reviewed by the BLM Wyoming State Director or another authorized official of the Department of the Interior, who may sustain, vacate, or modify this realty action in whole or in part. In the absence of timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so.

Authority: 43 CFR 2920.4.

Buddy W. Green,
BLM Wyoming Acting Associate State Director.

[FR Doc. 2017-20793 Filed 9-27-17; 8:45 am]

BILLING CODE 4310-22-P